DEPARTMENT OF THE INTERIOR

National Park Service

[N6807; NPS-WASO-NAGPRA-NPS0041643; PPWOCRADN0-PCU00RP14.R50000]

Notice of Intended Repatriation: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) intends to repatriate certain cultural items from Hamilton County, TN, that meet the definition of unassociated funerary objects and that have a cultural affiliation with the Indian Tribes or Native Hawaiian organizations in this notice.

DATES: Repatriation of the cultural items in this notice may occur on or after January 20, 2026.

ADDRESSES: Send additional, written requests for repatriation of the cultural items in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in the summary or related records. The National Park Service is not responsible for the determinations in this notice.

Abstract of Information Available

A total of one cultural item and two lots of artifacts from Hamilton County, Tennessee have been requested for repatriation.

Site 40HA52, Hamilton County, TN: One lot of faunal remains identified on the box label as originally being from mortuary contexts. These materials were donated to TDEC-DOA in 2022 by archaeology faculty from Sewanee, the University of the South. No information exists as to the circumstances of original collection. There is no known exposure to hazardous substances or treatments.

Site 40HA407, Hamilton County, TN: One lot of material including ochre and lithics. These materials were excavated by a consultant in August 1995 according to a cemetery removal petition to the Hamilton County Chancery Court. All skeletal materials from the project were transferred to the “Ghost Children of Heart Nations, Inc.” for reburial in April 1998. There is no information on how these specific materials entered or remained in TDEC-DOA collections. There is no known exposure to hazardous substances or treatments.

Unknown site, Hamilton County, TN: One ceramic vessel. The vessel was donated to TDEC-DOA in 1997. No additional information is available as to site location. There is no known exposure to hazardous substances or treatments.

Determinations

The TDEC-DOA has determined that:

• The three unassociated funerary objects described in this notice is reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a reasonable connection between the cultural items described in this notice and the Alabama-Coushatta Tribe of Texas; Cherokee Nation; Eastern Band of Cherokee Indians; Poarch Band of Creek Indians; The Muscogee (Creek) Nation; Thlopthlocco Tribal Town; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the TDEC-DOA must determine the most appropriate requestor prior to repatriation. Requests for joint repatriation of the cultural items are considered a single request and not competing requests. The TDEC-DOA is responsible for sending a copy of this notice to the Indian Tribes and Native Hawaiian organizations identified in this notice and to any other consulting parties.

Authority: Native American Graves Protection and Repatriation Act, 25 U.S.C. 3004 and the implementing regulations, 43 CFR 10.9.

Dated: December 11, 2025.
Melanie O'Brien,
Manager, National NAGPRA Program.

[FR Doc. 2025-23385 Filed 12-18-25; 8:45 am]

BILLING CODE 4312-52-P